DEPARTMENT OF LABOR

Employment and Training Administration

[TA-W-64,633]

Amended Certification Regarding Eligibility To Apply for Worker Adjustment Assistance and Alternative Trade Adjustment Assistance

Hewlett Packard Company, Imaging and Printing Group, Edgeline Development & Light Production Systems (LPS), Operations Division, Edgeline Development and Operations, Including On-Site Leased Workers from Adecco, ATA Engineering, Inc., CCSI, Inc., Collabers (Formerly Global Consultants, Inc.), COMSYS Information Technology Services, Inc., Conficio, LLC, DB Professionals, Inc., Everest Consultants, Inc., Global Consultants, Inc., H.L. Yoh Company LLC, Manpower, Inc., Netsource, Inc., Quality Logic, Inc., Spherion Corporation, Stilwell Baker, Stratus Global Partners, Syncro Design, LLC, Techlink Systems, Technical Aid Corp., D.B.A. TAC Worldwide Company, Trinite, Inc., Volt Information Sciences, Inc., K Force, SHI, and Supply Source, Vancouver, Washington.

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 19, 2008 applicable to workers of Hewlett Packard Company, Imaging and Printing Group, Edgeline Development & Light Production Systems (LPS) Operations Division, Edgeline Development and Operations, including on-site leased workers from Adea Solutions Company, Artech Information Systems, ATP Personnel Services Corporation, CDI Corporation, Finesse Personnel Associates (W.C. Barlow & Associates), Hightower Technology Capital, Inc., Kelly Services, Inc., Lionbridge Technologies, Inc., (AKA Veritest), Northwest Software, Inc., PDG (Product Design Group), Radiant Systems, Inc., Siemens, Inc., Synova, Inc., Technical Aid Corporation, d/b/a TAC Worldwide Company, and Volt Information Sciences, Inc. The notice was published in the Federal Register on January 14, 2009 (74 FR 2136).

At the request of a petitioner, the Department reviewed the certification for workers of the subject firm. The workers produce engineering specifications, software, and firmware used in the manufacture of HP Edgeline printers. An important part of this work involved the production and testing of printer prototypes.

New information shows that workers leased from the above mentioned firms were employed on-site at the Vancouver, Washington location of Hewlett Packard Company, Imaging and Printing Group, Edgeline Development & Light Production Systems (LPS) Operations Division, Edgeline Development and Operations. The Department has determined that these workers were sufficiently under the control of the subject firm to be considered leased workers.

Based on these findings, the Department is amending this certification to include workers leased from the above mentioned firms working on-site at the Vancouver, Washington location of Hewlett Packard Company, Imaging and Printing Group, Edgeline Development & Light Production Systems (LPS) Operations Division, Edgeline Development and Operations.

The amended notice applicable to TA-W-64,633 is hereby issued as follows:

All workers of Hewlett Packard Company, Imaging and Printing Group, Edgeline Development and Light Production Systems (LPS) Operations, Edgeline Development Operations, Vancouver, Washington, including on-site leased workers from Adea Solutions Company, Artech Information Systems, ATP Personnel Services Corporation, CDI Corporation, Finesse Personnel Associates (W.C. Barlow & Associates), Hightower Technology Capital, Inc., Kelly Services, Inc., Lionbridge Technologies, Inc. (aka VeriTest), Northwest Software, Inc., PDG (Product Design Group), Radiant Systems, Inc., Siemens, Inc., Synova, Inc., Technical Aid Corporation d/b/a TAC Worldwide Company, Volt Information Sciences, Inc., Adecco, ATA Engineering, Inc., CCSI, Inc., Collabera, (formerly known as Global Consultants, Inc.), COMSYS Information Technology Services, Inc., Conficio, LLC, DB Professionals, Inc., Everest Consultants, Inc., Global Consultants, Inc., H.L. Yoh Company, LLC. Manpower, Inc., NetSource, Inc., Quality Logic, Inc., Spherion Corporation, Stilwell Baker, Stratus Global Partners, Syncro Design, LLC, TechLink Systems, Technical Aid Corp., d/b/a TAC Worldwide Company, Trinite, Inc., K Force, SHI and Supply Source, who became totally or partially separated from employment on or after December 3, 2007 through December 19, 2010, through April 27, 2011, are eligible to apply for adjustment assistance under Section 223 of the Trade Act of 1974, and are also eligible to apply for alternative trade adjustment assistance under Section 246 of the Trade Act of 1974.

Signed at Washington, DC this 12th day of April 2009.
Elliott S. Kushner,
Certifying Officer, Division of Trade Adjustment Assistance.

[FR Doc. 2010-8882 Filed 4-16-10; 8:45 am]

BILLING CODE 4510-FN-P